ENVIRONMENTAL PROTECTION AGENCY

[OW-2003-0013; FRL-7565-9]

Agency Information Collection Activities; Submission to OMB for Review and Approval; Comment Request: Title IV of the Public Health Security and Bioterrorism Preparedness and Response Act of 2002: Drinking Water Security and Safety, EPA ICR Number 2103.02, OMB Control Number 2040-0253

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire September 30, 2003. Under OMB regulations, the Agency may continue to conduct or sponsor the collection of information while this submission is pending at OMB. This ICR describes the nature of the information collection and its estimated burden and cost.

DATES: Additional comments may be submitted on or before October 30, 2003.

ADDRESSES: Submit your comments, referencing docket ID number OW-2003-0013 to (1) EPA online using EDOCKET (our preferred method), by e-mail to OW-Docket@epa.gov, or by mail to: EPA Docket Center, Environmental Protection Agency, Water Docket Mail Code 4101T, 1200 Pennsylvania Ave., NW., Washington, DC 20460; and (2) OMB at: Office of Information and Regulatory Affairs, Office of Management and Budget (OMB), Attention: Desk Officer for EPA, 725 17th Street, NW., Washington, DC 20503.

FOR FURTHER INFORMATION CONTACT: Susan Dolgin, Water Protection Task Force, Mail Code 4606, Environmental Protection Agency, 1200 Pennsylvania Ave., NW., Washington, DC 20460: telephone number: 202-564-9895; fax number: 202-564-8513; e-mail address: dolgin.susan@epa.gov.

SUPPLEMENTARY INFORMATION: EPA has submitted the following ICR to OMB for review and approval according to the procedures prescribed in 5 CFR 1320.12. On May 20, 2003 (68 FR 27555), EPA sought comments on this ICR pursuant to 5 CFR 1320.8(d). EPA received two comments.

EPA has established a public docket for this ICR under Docket ID No. OW-2003-0013, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Title IV of the Public Health Security and Bioterrorism Preparedness and Response Act of 2002: Drinking Water Security and Safety.

Abstract: Title IV of the Public Health Security and Bioterrorism Preparedness and Response Act of 2002 (Pub. L. 107-188) amends the Safe Drinking Water Act (SDWA). The Act requires each community water system (CWS) serving a population of more than 3,300 people to conduct a vulnerability assessment of its water system and to prepare or revise an emergency response plan that incorporates the results of the vulnerability assessment. EPA will use the data collected under this ICR to evaluate the steps taken by CWSs to ensure the security of the nation's drinking water supply. EPA will use the information collected under this ICR to determine whether CWSs have completed vulnerability assessments and prepare or revise updated emergency response plans.

Primary users of the information collected under this ICR include the EPA Office of Ground Water and Drinking Water (OGWDW), EPA Regional Administrators, and CWSs.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average approximately 130 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Community Water Systems.

Estimated Number of Respondents: 8,487.

Frequency of Response: 3 responses per system during the ICR period.

Estimated Total Annual Hour Burden: 2,913,929.

Estimated Total Annualized Cost: $156,458,154, includes $82,211 O&M costs.

Changes in the Estimates: There is an increase of 261,537 hours in the total estimated burden currently identified in the OMB Inventory of Approved ICR Burdens. This increase is a result of adding burden hours to the respondent inventory. In the previous ICR, when EPA off-set respondent costs by the amount of grant funding that was provided to systems, it inadvertently off-set a corresponding number of hours. However, although system costs were off-set by grant funding, the amount of labor hours required to complete all requirements of the Act remains the same. Therefore, EPA has added these previously unaccounted for hours into the official inventory.

Dated: September 22, 2003.
Sara Hisel McCoy,
Acting Director, Collection Strategies Division.

[FR Doc. 03-24781 Filed 9-29-03; 8:45 am]

BILLING CODE 6560-50-P